DEPARTMENT OF VETERANS AFFAIRS

Advisory Committee on Cemeteries and Memorials, Notice of Meeting

The Department of Veterans Affairs (VA) gives notice under the Federal Advisory Committee Act that a meeting of the Advisory Committee on Cemeteries and Memorials will be held on May 7-May 8, 2019. The meeting sessions will take place at the Veterans of Foreign Wars Memorial Building, 200 Maryland Avenue NE, Washington, DC 20002. The meeting sessions are open to the public.

The purpose of the Committee is to advise the Secretary of Veterans Affairs on the administration of national cemeteries, soldiers' lots and plots, the selection of new national cemetery sites, the erection of appropriate memorials, and the adequacy of Federal burial benefits. The Committee will make recommendations to the Secretary regarding such activities.

On Tuesday, May 7, 2019, the Committee will convene with an open session from 8:30 a.m. to 4:00 p.m. eastern time. The dial-in number is 1-800-767-1750, access code is 02668#. The agenda will include remarks by the VA Leadership, Ethics refresher training, briefing from the Advisory Committee Management Office, introductions of new member appointments, and status updates from Ex-Officio members, and a site visit to Alexandria National Cemetery (in Virginia) to observe cemetery operations, and memorialization products of the Veterans Legacy Program.

On May 8, 2019, the meeting will reconvene an open session from 8:30 a.m.-3:00 p.m., eastern time. The dial-in number is 1-800-767-1750, access code is 02668#. The agenda will include status updates on the National Cemetery Scheduling Office, Pre-Need Burial Determination, burial needs for Native American Veterans, status update of 2017 & 2018 recommendations, new charges, and next steps.

Any member of the public wishing to attend the meeting should contact Ms. Christine Hamilton, Designated Federal Officer, at (202) 461-5681. The Committee will also accept written comments. Comments may be transmitted electronically to the Committee at Christine.hamilton1@va.gov or mailed to the National Cemetery Administration (40A1), 810 Vermont Avenue NW, Room 400, Washington, DC 20420. In the public's communications with the Committee, the writers must identify themselves and state the organizations, associations, or persons they represent.

Dated: February 8, 2019.
Jelessa M. Burney,
Federal Advisory Committee Management Officer.

[FR Doc. 2019-02135 Filed 2-12-19; 8:45 am]

BILLING CODE P